DEPARTMENT OF AGRICULTURE

Foreign Agricultural Service

Privacy Act of 1974: New System of Records

AGENCY: Foreign Agricultural Service, USDA.

ACTION: Notice of a New System of Records.

SUMMARY: The Foreign Agricultural Service (FAS) proposes to add a new system of records notice to its inventory of records systems subject to the Privacy Act of 1974. This action is necessary to meet the requirements of the Privacy Act to publish in the Federal Register notice of the existence and character of records systems maintained by the agency. The Integrated Management Administrative Resources Tool (iMART) will serve as a comprehensive personnel management system to manage and store all personnel and career data, along with organizational and historical data, in one central and integrated system.

DATES: This notice will be effective without further notice January 21, 2020 unless comments are received that would result in a contrary determination. Written or electronic comments must be received by the contact person listed below on or before January 21, 2020 to be assured consideration.

ADDRESSES: You may send comments by any of the following methods:

• Federal eRulemaking Portal: http://www.regulations.gov. Follow the instructions for sending comments.

• Email: PGRSdocs@fas.usda.gov. Include the Federal Register Document Number in the subject line of the message.

• Mail: USDA/FAS/OFSO/PGRS, 1400 Independence Avenue SW, Washington, DC 20250, Stop 1080.

All submissions received must include the agency name and document number for this notice.

FOR FURTHER INFORMATION CONTACT: Karen Darden, Director, 202-720-1346, PGRSdocs@fas.usda.gov.

SUPPLEMENTARY INFORMATION: The Integrated Management Administrative Resources Tool (iMART) provides FAS and the U.S. Department of Agriculture (USDA) Office of the Chief Financial Officer (OCFO) a system that integrates and reconciles multiple financial data sources to support the administrative control of funds, including the reconciliation of financial transactions, and the financial reporting needs to report on global operations.

At the end of FY 2012, FAS/Office of Foreign Service Operations (OFSO) identified the need for an integrated management system that links agency business processes with workforce management, financial and budget planning, execution, and reconciliation. Without a system that links business processes with workforce and financial management, the agency was left with an operational gap and forced to operate in an inefficient environment. The management of resources and personnel data required duplicative entries into multiple systems, thereby increasing the risk of error and led to untimely recording of operational data. As a result, FAS had been unable to optimally align performance management goals and objectives to USDA and FAS strategic plans.

The initial iMART project focused entirely on the OFSO requirement to automate and streamline its business processes. At the end of FY 2013, FAS expanded the project to include agency-wide overseas operations. During the past five years, significant portions of agency workforce management and overseas financial execution of funds have been completed.

In FY 2018, FAS and the Animal and Plant Health Inspection Service (APHIS)/International Services (IS) entered into a Memorandum of Understanding to collaborate on the iMART project as it provides a variety of benefits for both agencies. FAS and APHIS/IS support USDA's global initiatives and are a part of the Foreign Service community, making these agencies unique in their organizational structure, staffing, and relationship to the State Department through the Foreign Service Act of 1890.

APHIS/IS' primary goal in adopting iMART as a management tool is to address a variety of challenges in their human capital management. The system will provide a complete and consolidated profile of their personnel that will allow them to make informed strategic decisions that influence their resource management.

There are many functionalities within iMART that will give APHIS/IS an advantage in the management of their operations. APHIS/IS will see immediate results in the tracking of Foreign Service Officer assignments and entitlements, which will give them the ability to make sound resource projections based on confirmed data. iMART allows APHIS/IS to be more analytical and forward thinking in financial planning and offers the ability to develop concise reports expediently to guide future decision making. This collaboration also creates efficiencies at both agencies by providing a shared platform for data required in working with the State Department and managing a vast overseas operation.

Dated: August 28, 2019.
Ken Isley,
Administrator, Foreign Agricultural Service.

SYSTEM NAME AND NUMBER:

Integrated Management Administrative Resources Tool System (iMART). USDA/FAS-9.

SECURITY CLASSIFICATION:

Unclassified.

SYSTEM LOCATION:

The system owner is USDA/FAS, 1400 Independence Avenue SW, Washington, DC 20250. The electronic record systems are maintained on servers that are physically located at the National Information Technology Center (NITC), 8930 Ward Parkway, Kansas City, Missouri 64114.

SYSTEM MANAGER(S):

Director, Karen Darden, 1400 Independence Avenue SW, Stop 1080, Washington, DC 20250.

AUTHORITY FOR MAINTENANCE OF THE SYSTEM:

5 U.S.C. 301 and 7 U.S.C. 5692.

PURPOSE(S) OF THE SYSTEM:

The iMART system will be developed as a platform that enables the automation and integration of workforce, expense, and performance management capabilities. In addition, iMART will comprise of interfaces that synchronize internal and external data sources allowing for reliable metrics, analytics, and reporting that aligns with the agency's enterprise architecture.

CATEGORIES OF INDIVIDUALS COVERED BY THE SYSTEM:

FAS employees and family members. Other USDA employees working in support of overseas operations.

CATEGORIES OF RECORDS IN THE SYSTEM:

This system consists of records relating to the following:

• Personnel data: Includes name, block/vendor number, address, sex, citizenship, date and place of birth, marital status, and the names and birth dates of eligible family members;

• Career data: Includes education level, college(s) attended, major subjects, skill codes, foreign language training and examination scores, time in class, and time in service;

• Job history data: Includes both current and previous position titles, pay plans, grades, assignment dates, locations, and pending assignment information; and

• Organizational data: Includes organizational hierarchies, accounting information, awards, disciplinary actions, space requirements, etc.

• Budget & Financial Data: Includes Payroll and operational expenditures.

RECORD SOURCE CATEGORIES:

Information in this system of record is obtained from multiple systems including but not limited to National Finance Center (NFC), Financial Management Modernization Initiative (FMMI), Position Organization Listing (POL), Department of State/Executive Agency Personnel System (EAPS) and Department of State/Consolidated Overseas Accountability Support Toolbox (COAST).

ROUTINE USES OF RECORDS MAINTAINED IN THE SYSTEM, INCLUDING CATEGORIES OF USERS AND PURPOSES OF SUCH USES:

In addition to those disclosures generally permitted under 5 U.S.C. 552a(b) of the Privacy Act, records maintained in the system may be disclosed outside USDA as a routine use under 5 U.S.C. 552a(b)(3), as follows, to the extent that such disclosures are compatible with the purposes for which the information is collected: USDA may disclose information contained in a record in this system of records under the routine uses listed without the consent of the individual if the disclosure is compatible with a purpose for which the record was collected.

A. To appropriate agencies, entities, and persons when (a) USDA suspects or has confirmed that the security or confidentiality of information in the system of records has been compromised; (b) USDA has determined that as a result of the suspected or confirmed breach there is a risk of harm to individuals, USDA (including its information systems, programs, and operations), the Federal Government, or national security; and (c) the disclosure made to such agencies, entities, and persons is reasonably necessary to assist in connection with USDA's efforts to respond to the suspected or confirmed compromise and prevent, minimize, or remedy such harm;

B. To a court or adjudicative body in a proceeding when: (a) USDA or any component thereof; or (b) any employee of USDA in his or her official capacity; or (c) any employee of USDA in his or her individual capacity where USDA has agreed to represent the employee; or (d) the United States Government, is a party to litigation or has an interest in such litigation, and by careful review, USDA determines that the records are both relevant and necessary to the litigation and the use of such records is therefore deemed by USDA to be for a purpose that is compatible with the purposes for which USDA collected the records.

C. Federal Law Enforcement personnel (DoJ, DHS or DoD) who may assist when a breach involves the violation or suspected violation of law or when a breach is the subject of a law enforcement investigation.

D. To the Department of Justice when: (a) USDA or any component thereof; or (b) any employee of USDA in his or her official capacity where the Department of Justice has agreed to represent the employee; or (c) the United States Government, is a party to litigation or has an interest in such litigation, and by careful review, USDA determines that the records are both relevant and necessary to the litigation and the use of such records by the Department of Justice is therefore deemed by USDA to be for a purpose that is compatible with the purpose for which USDA collected the records.

E. To the National Archives and Records Administration (NARA) or to other Federal Government agencies pursuant to records management inspections being conducted under the authority of 44 U.S.C. 2904 and 2906.

F. Information may be disclosed to a court or adjudicative body in a proceeding when: (a) USDA or any component thereof; or (b) any employee of USDA in his or her official capacity; or (c) any employee of USDA in his or her individual capacity where USDA has agreed to represent the employee; or (d) the United States Government, is a party to litigation or has an interest in such litigation, and by careful review, USDA determines that the records are both relevant and necessary to the litigation and the use of such records is therefore deemed by USDA to be for a purpose that is compatible with the purpose for which USDA collected the records.

G. When a record on its face, or in conjunction with other records, indicates a violation or potential violation of law, whether civil, criminal or regulatory in nature, and whether arising by general statute or particular program statute, or by regulation, rule, or order issued pursuant thereto, disclosure may be made to the appropriate agency, whether Federal, foreign, State, local, or Tribal, or other public authority responsible for enforcing, investigating or prosecuting such violation or charged with enforcing or implementing the statute, or rule, regulation, or order issued pursuant thereto, if the information disclosed is relevant to any enforcement, regulatory, investigative, or prosecutorial responsibility of the receiving entity. Referral to the appropriate agency, whether Federal, State, local, or foreign, charged with the responsibility of investigating or prosecuting violation of law, or of enforcing or implementing a statute, rule, regulation, or order issued pursuant thereto, of any record within the system when information available indicates a violation or potential violation of law, whether civil, criminal, or regulatory in nature.

H. To contractors and their agents, grantees, experts, consultants, or volunteers who have been engaged by the agency in working on a contract, service, grant, cooperative agreement, or other assignment for the agency, who need to have access to the records in order to perform the activity. Individuals provided information under this routine use shall be required to comply with the requirements of the Privacy Act of 1974, as amended, pursuant to 5 U.S.C. 552a(m).

I. To a Federal, State, tribal, local, international, or foreign government agency or entity for the purpose of consulting with that agency or entity: (1) To assist in making a determination regarding redress for an individual in connection with the operations of a USDA component or program; (2) for the purpose of verifying the identity of an individual seeking redress in connection with the operations of a USDA component or program; or (3) for the purpose of verifying the accuracy of information submitted by an individual who has requested such redress on behalf of another individual. USDA payroll and operational expenditures are in aggregate.

J. To a Congressional office in response to an inquiry made at the written request of the individual to whom the record pertains;

K. To another Federal agency or Federal entity, when information from this system of records is reasonably necessary to assist the recipient agency or entity in (1) responding to a suspected or confirmed breach or (2) preventing, minimizing, or remedying the risk of harm to individuals, (including its information systems, programs, and operations), the Federal Government, or national security;

POLICIES AND PRACTICES FOR STORAGE OF RECORDS:

FAS is responsible for maintaining its program. These records are electronically stored at NITC and are under the custodial care of FAS.

POLICIES AND PRACTICES FOR RETRIEVAL OF RECORDS:

iMART does not interface or connect directly with NITC for personnel data. Select personnel information from NITC in an Excel report is loaded into iMART on a periodic basis. iMART internal personal records can be searched and retrieved by authorized and authenticated users with access by role, responsibility, and privilege. These records are indexed by the Microsoft database using Global Unique Identifier (GUID) and automatically generated integers. The software allows users to search indexed records by first and last name personal identifiers. Users can only conduct searches electronically from iMART web pages and web reports. Some of the search results are displayed on the screen and many are presented in reports. Electronic records are retrieved from NITC.

Currently, the only automated form stored in iMART is the AD-287-2 (Recommendation and Approval Form) which collects name of employee, pay plans and award types. This form will be for internal use for USDA employees only. FAS do not require collecting an individual's SSN on this form. FAS plans to continue to automate its business processes along with forms associated with FAS human resources and budgetary requirements to comply with mandatory OMB and department mandates.

iMART access and authentication are built to meet USDA policies and practices including identification cards, network access, and electronic authentication methods. All iMART user access is built on a role, responsibility, and privilege matrix based on user need to know. The administration console, policies, and procedures are documented in a User Guide. The user access console is managed by the System Owner.

POLICIES AND PRACTICES FOR RETENTION AND DISPOSAL OF RECORDS:

Records are retained and disposed of in accordance with the NARA's General Record Schedule (GRS) 2.3 (1.3 is for Budget Records, 2.2 is for Employee Management Records, and 2.3 is for Employee Relations Records) but may be retained for a longer period as required by litigation, investigation, and/or audit. Electronic and/or paper records are retained with USDA employees at USDA offices.

ADMINISTRATIVE, TECHNICAL, AND PHYSICAL SAFEGUARDS:

Electronic records are stored securely at NITC. FAS employee access to and use of these records are limited to those persons whose official duties require such access. All users are given security awareness training which covers procedures for handling sensitive information, including personally identifiable information (PII). Annual refresher training is mandatory. All USDA employees and contractors with authorized access have undergone a thorough background security investigation.

RECORD ACCESS PROCEDURES:

The long-term plan is to allow users to access their own data; however, at this time that security/role base permission is not available.

CONTESTING RECORD PROCEDURES:

The long-term plan is to allow users to access their own data; however, at this time that security/role base permission is not available. Contacting the program area point of contact (POC) is the method used to correct data discrepancies.

NOTIFICATION PROCEDURES:

Same as Record Access Procedures.

EXEMPTIONS PROMULGATED FOR THE SYSTEM:

None.

HISTORY:

None (this is a new SORN).

[FR Doc. 2019-25020 Filed 11-18-19; 8:45 am]

BILLING CODE 3410-10-P